DEPARTMENT OF VETERANS AFFAIRS

[OMB Control No. 2900-0859]

Agency Information Collection Activity Under OMB Review: Request for Restoration of Educational Assistance

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0859.

FOR FURTHER INFORMATION CONTACT: Maribel Aponte, Office of Enterprise and Integration, Data Governance Analytics (008), 1717 H Street NW, Washington, DC 20006, (202) 266-4688 or email maribel.aponte@va.gov. Please refer to “OMB Control No. 2900-0859” in any correspondence.

SUPPLEMENTARY INFORMATION:

Authority: Public Law 115-48.

Title: Request for Restoration of Educational Assistance.

OMB Control Number: 2900-0859.

Type of Review: Revision of a currently approved collection.

Abstract: VA Form 22-0989 will allow students to apply for restoration of entitlement for VA education benefits used at a school that closed, suspended, or had its approval to receive VA benefits withdrawn. Education Service requests approval of this information collection in order to carry out the implementation of the law which requires VA to immediately accept applications to restore education benefits for school closures and disapprovals beginning after January 1, 2015.

An agency may not conduct or sponsor, and a person is not required to respond to a collection of information unless it displays a currently valid OMB control number. The Federal Register Notice with a 60-day comment period soliciting comments on this collection of information was published at 85 FR 22929 on October 16, 2020, page 65902.

Affected Public: Individuals.

Estimated Annual Burden: 955 hours.

Estimated Average Burden per Respondent: 15 minutes.

Frequency of Response: Once on occasion.

Estimated Number of Respondents: 3,821.

By direction of the Secretary.
Maribel Aponte,
VA PRA Clearance Officer, Office of Enterprise and Integration, Data Governance Analytics, Department of Veterans Affairs.

[FR Doc. 2021-03029 Filed 2-12-21; 8:45 am]

BILLING CODE 8320-01-P